DEPARTMENT OF TRANSPORTATION

Federal Aviation Administration

74th Meeting: RTCA Special Committee 147, Minimal Operations Performance Standards for Traffic Alert and Collision Avoidance Systems Airborne Equipment

AGENCY: Federal Aviation Administration (FAA), U.S. Department of Transportation (DOT).

ACTION: Meeting Notice of RTCA Special Committee 147, Minimal Operations Performance Standards for Traffic Alert and Collision Avoidance Systems Airborne Equipment.

SUMMARY: The FAA is issuing this notice to advise the public of the 74th meeting of RTCA Special Committee 147, Minimal Operations Performance Standards for Traffic Alert and Collision Avoidance Systems Airborne Equipment.

DATES: The meeting will be held June 6-8, 2012, from 8:30 a.m.-3:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. No. 92-463, 5 U.S.C., App.), notice is hereby given for a meeting of Special Committee 147. The agenda will include the following:

June 6, 2012

• SC-147 Surveillance Working Group: To meet from 9:00 a.m.-5:00 p.m. at:

• Honeywell Offices, 101 Constitution Ave. NW., Suite 500, Washington, DC 20001

June 7, 2012

• SC-147 Requirements Working Group: June 7, 2012; 1:00-5:00

• Honeywell Offices, 101 Constitution Ave. NW., Suite 500, Washington, DC 20001

June 8, 2012—Plenary

• Joint SC-147 & EUROCAE WG-75 Plenary Session: June 8, 2012

• SC-147 & WG-75 Co-Chairmen's opening remarks

• Introductions

• Approval of Agenda & Summary from 73rd meeting of SC-147

• New SC-147 Terms of Reference Euro

• EUROCAE WG-75: Status of current activities

• Working Group Status Reports

• Requirement Working Group

• Surveillance Working Group

• DO-300A Status, Schedule, and Issues

• TCAS Program Office Activities

• Study of RA Downlink Accuracy & implications for potential passive coordination with other systems

• Future CAS development efforts

• SESAR Activities Workgroup Reports

• Summary of Reducing RA Thresholds Analysis (Detailed briefing to be given to Requirements Working Group, June 7.)

• SESAR/EUROCAE plans forward on RA Threshold Analysis/Potential MOPS Updates Industry Solicitation Progress Report

• AVS and other FAA activities

• Other Business

• Action Items

• Time and Place of Next meeting

• Plenary Adjourns

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 9, 2012.
John Raper,
Manager, Business Operations Branch, Federal Aviation Administration.

[FR Doc. 2012-12097 Filed 5-17-12; 8:45 am]

BILLING CODE 4910-13-P